DEPARTMENT OF ENERGY

Federal Energy Regulatory Commission

[Docket Nos. AD05-11-000 and ER02-1656-000]

Energy Infrastructure and Investment in California and California Independent System Operator Corporation; Notice of Technical Conference

May 13, 2005.

Take notice that the Federal Energy Regulatory Commission in conjunction with California State agencies, will host a technical conference on Thursday, June 2, 2005, to discuss energy infrastructure and investment in California. The conference will be held in San Francisco, California. The conference is scheduled to begin at 9 a.m. (p.s.t.) and end at approximately 3 p.m. A separate notice will be issued by the Commission to announce the exact location and final agenda. FERC Commissioners will attend and participate.

The purpose of the conference is for the Commission and State officials to discuss with industry representatives the current and future state of infrastructure development and investment in California. We look forward to an informative discussion of the issues to clarify how we can facilitate and enhance a comprehensive collaborative approach to energy infrastructure development and reliability for California.

The Commission is now soliciting nominations for speakers at the technical conference. Persons wishing to nominate themselves as speakers should do so using this electronic link: http://www.ferc.gov/whats-new/registration/infra-06-02-speaker-form.asp. Such nomination must be made before the close of business on May 20, 2005, so that a final agenda for the technical conference can be drafted and published.

Although registration is not a strict requirement, in-person attendees are asked to register for the conference on-line by close of business on May 31, 2005 at http://www.ferc.gov/whats-new/registration/infra-06-02-form.asp.

Transcripts of the conference will be immediately available from Ace Reporting Company (202) 347-3700 or 1-800-266-6646) for a fee. They will be available for the public on the Commission's eLibrary system and on the calendar page posting for this event seven calendar days after FERC receives the transcript. Additionally, Capitol Connection offers the opportunity for remote listening of the conference via Real Audio or a Phone Bridge Connection for a fee. Persons interested in making arrangements should contact David Reininger or Julia Morelli at Capitol Connection (703) 933-3100) as soon as possible or visit the Capitol Connection Web site at http://www.capitolconnection.org and click on “FERC.”

As mentioned above, additional details on the conference, including the agenda, will be included in a supplemental notice to be issued at a later date. You are encouraged to watch for additional notices.

For additional information, please contact Sarah McKinley at (202) 502-8004, sarah.mckinley@ferc.gov.

Magalie R. Salas,
Secretary.

[FR Doc. E5-2579 Filed 5-20-05; 8:45 am]

BILLING CODE 6717-01-P